DEPARTMENT OF COMMERCE

National Oceanic and Atmospheric Administration

[Docket No.: 030602141-4296-13]

Omnibus Notice Announcing the Availability of Grant Funds for Fiscal Year 2005; Addendum Additional Programs; National Sea Grant College Program; Ballast Water Technology Demonstration Program and National Strategic Initiative in Aquatic Invasive Species Research and Outreach

AGENCY: National Sea Grant College Program, Office of Oceanic and Atmospheric Research, National Oceanic and Atmospheric Administration, Department of Commerce.

ACTION: Notice; extension of deadlines.

DATES: For the Ballast Water Technology Demonstration Program, the application deadlines are as follows: Full proposals must be received by the National Sea Grant Office by 4 p.m. e.s.t. on November 30, 2004.

For the National Strategic Initiative in Aquatic Invasive Species Research and Outreach, the application deadlines are as follows: Full proposal must be received by a state Sea Grant Program (or by the National Sea Grant Office in the case of an applicant in a non-Sea Grant state) by 4 p.m. (local time) on November 16, 2004. State Sea Grant Programs are to forward all full proposals received by the above deadline to the National Sea Grant Office by 4 p.m. e.s.t. on December 1, 2004.

ADDRESSES: The full notices can be found at: http://fedgrants.gov/Applicants/DOC/NOAA/GMC/11417BWTDP07142004/Attachments.html#upl. http://fedgrants.gov/Applicants/DOC/NOAA/GMC/11417Invasive071404/Attach#upl.

SUMMARY: The National Oceanic and Atmospheric Administration (NOAA) publishes this notice to extend the application deadline for the Ballast Water Technology Demonstration Program and the date by which Sea Grant Programs must forward received applications for the National Strategic Initiative in Aquatic Invasive Species Research and Outreach to the National Sea Grant Office (NSGO). This extension is being granted to ease the transition to electronic grants submissions through the Grants.gov portal. The deadline for applications from PI's to the state Sea Grant Office (or to the National Sea Grant Office in the case of an applicant in a non-Sea Grant state) for the National Strategic Initiative in Aquatic Invasive Species Research and Outreach program remains the same.

FOR FURTHER INFORMATION CONTACT: Dorn Carlson, 301-713-2435 ext. 123; e-mail: Dorn.Carlson@noaa.gov. For questions regarding electronic submissions contact Jonathan Eigen at 301-713-2438 ext. 188 or jonathan.eigen@noaa.gov.

SUPPLEMENTARY INFORMATION: NOAA publishes this notice to extend an application deadline for the Ballast Water Technology Demonstration Program and the National Strategic Initiative in Aquatic Invasive Species Research and Outreach initiated by the NSGO. The original solicitation of applications was published in the Federal Register on July 14, 2004 (69 FR 42132).

For the Ballast Water Technology Demonstration Program, NOAA announces that the date by which all full proposals must be received by the National Sea Grant Office has been changed from November 16, 2004 to November 30, 2004.

For the National Strategic Initiative in Aquatic Invasive Species Research and Outreach, the date by which full proposals must be forwarded by State Sea Grant Programs to the National Sea Grant Office has been changed from November 23, 2004 to December 1, 2004. The reason for these changes is to aid the PI's and the Sea Grants programs in the transition to electronic grant submission through Grants.gov. All other application deadlines remain the same.

The Federal Funding Opportunity (FFO) notice has been modified to reflect these changes. In addition, the FFO has been amended to allow proposal submission to these two programs electronically through http://www.grants.gov.

This program is excluded under E.O. 12372.

Dated: October 29, 2004.
Louisa Koch,
Deputy Assistant Administrator, Office of Oceanic and Atmospheric Research, National Oceanic and Atmospheric Administration.

[FR Doc. 04-24536 Filed 11-2-04; 8:45 am]

BILLING CODE 3510-KA-P